DEPARTMENT OF TRANSPORTATION

Federal Aviation Administration

Sixth Meeting, Special Committee 213 Enhanced Flight Vision Systems/Synthetic Vision System, (EFVS/SVS)

AGENCY: Federal Aviation Administration (FAA), DOT.

ACTION: Notice of RTCA Special Committee 213, Enhanced Flight Vision Systems/Synthetic Vision System, (EFVS/SVS).

SUMMARY: The FAA is issuing this notice to advise the public of a meeting of RTCA Special Committee 213, Enhanced Flight Vision Systems/Synthetic Vision System, (EFVS/SVS).

DATES: The meeting will be held May 20-22, 2008 from 9 a.m.-5 p.m.

ADDRESSES: The meeting will be held at Marriot Courtyard, Montreal Airport, 7000 Place Robert-Joncas, Montreal, Quebec H4M 2Z5.

FOR FURTHER INFORMATION CONTACT: RTCA Secretariat, 1828 L Street, NW., Suite 805, Washington, DC 20036 telephone (202) 833-9339: fax (202) 833-9434: Web site http://www.rtca.org for directions. Marriot Courtyard Contact: Ms. Gabrielle Ricci. On Site Point of Contacts: Mr. Anthony Barber 514-855-9411, Ms. Sandra Beaven 514-855-9771.

Dress: Business Casual.

SUPPLEMENTARY INFORMATION: Pursuant to section 10(a)(2) of the Federal Advisory Committee Act (Pub. L. 92-463, 5 U.S.C., Appendix 2), notice is hereby given for a Special Committee 213 meeting. The agenda will include:

• May 20:

• Welcome, Introductions, and Agenda Review;

• Review SC-213 Objectives, Action Items, and SC-213 Web site content;

• Approve minutes from previous;

• Review initial reports from WG 1 and WG 2;

• Review/edit most recent draft MASPS.

• May 21:

• Continuation of Plenary meetings to edit draft MASPS.

• May 22:

• Plenary consensus of combined draft MASPS;

• Plenary;

• Review of action items;

• Define next steps for continued MASPS development;

• Establish date and time for next meeting, adjourn.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 22, 2008.
Francisco Estrada C.,
RTCA Advisory Committee.

[FR Doc. E8-9534 Filed 4-30-08; 8:45 am]

BILLING CODE 4910-13-M